DEPARTMENT OF DEFENSE

Department of the Navy

Notice of Intent To Grant Exclusive Patent License; Global Dosimetry Solutions, Inc.

AGENCY: Department of the Navy, DOD.

ACTION: Notice.

SUMMARY: The Department of the Navy hereby gives notice of its intent to grant to Global Dosimetry Solutions, Inc., a revocable, nonassignable, exclusive license to practice in the field of real time monitoring of the radiation dose rate and the immediate and/or cumulative radiation dose delivered to the skin (entrance and exit) of human medical patients during radiation therapy and other medical procedures, and real time in vivo monitoring of the radiation dose rate and the immediate or cumulative radiation dose delivered inside of human medical patients during radiation therapy and other medical procedures in the United States and certain foreign countries, the Government-owned inventions described in U.S. Patent No. 5,585,640: Glass Matrix Doped with Activated Luminescent Nanocrystalline Particles, Navy Case No. 76,342.//U.S. Patent No. 5,606,163: All-Optical, Rapid Readout, Fiber-Coupled Thermoluminescent Dosimeter System, Navy Case No. 76,626.//U.S. Patent No. 5,811,822: Optically Transparent, Optically Stimulable Glass Composites for Radiation Dosimetry, Navy Case No. 77,637.//U.S. Patent No. 6,087,666: Optically Stimulated Luminescent Fiber Optic Radiation Dosimeter, Navy Case No. 78,583.

DATES: Anyone wishing to object to the grant of this license must file written objections along with supporting evidence, if any, not later than September 23, 2004.

ADDRESSES: Written objections are to be filed with the Naval Research Laboratory, Code 1004, 4555 Overlook Avenue, SW., Washington, DC 20375-5320.

FOR FURTHER INFORMATION CONTACT: Ms. Jane F. Kuhl, Technology Transfer Office, NRL Code 1004, 4555 Overlook Avenue, SW., Washington, DC 20375-5320, telephone 202-767-3083. Due to U.S. Postal delays, please fax 202-404-7920, E-mail kuhl@utopia.nrl.navy.mil, or use courier delivery to expedite response.

Authority: 35 U.S.C. 207, 37 CFR Part 404.

Dated: August 31, 2004.
J.H. Wagshul,
Commander, Judge Advocate General's Corps, U.S. Navy, Federal Register Liaison Officer.

[FR Doc. 04-20309 Filed 9-7-04; 8:45 am]

BILLING CODE 3810-FF-P